DEPARTMENT OF DEFENSE

Office of the Secretary

[Docket ID: DoD-2014-HA-0007]

Proposed Collection; Comment Request

AGENCY: Office of the Assistant Secretary of Defense for Health Affairs, DoD.

ACTION: Notice.

SUMMARY: In compliance with Section 3506(c)(2)(A) of the Paperwork Reduction Act of 1995, the Office of the Assistant Secretary of Defense for Health Affairs, DoD announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by March 18, 2014.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to the Office of the Assistant Secretary of Defense for Health Affairs (OASD), Defense Health Agency—ATTN: Ms. Laura Johnson, 16401 East Centretech Parkway, Aurora, CO 80011-9066.

SUPPLEMENTARY INFORMATION:

Title; Associated Form; and OMB Number: TRICARE Dual Eligible Fiscal Intermediary (TDEFIC) Provider Satisfaction Survey; OMB Control Number 0720-0045.

Needs and Uses: This survey Wisconsin Physician Services (WPS) is to administer is a contract requirement that the Government has accepted and paid for as part of the contract award. This survey is conducted on a monthly basis, and the sample will be drawn from all providers that have had a claim processed in the previous week and therefore is not limited to just Network Providers. WPS will use the survey to assess provider satisfaction, attitudes, and perceptions regarding the claims processing and customer services provided by WPS for the TDEFIC in order to improve internal operations and customer services to increase provider satisfaction.

Affected Public: Individuals or households; Federal Government.

Annual Burden Hours: 11,700.

Number of Respondents: 46,800.

Responses per Respondent: 1.

Average Burden per Response: 15 minutes.

Frequency: On Occasion.

The goal of this survey effort is to assess TRICARE Provider satisfaction attitudes and perceptions regarding claims processing and customer services provided by Wisconsin Physician Services (WPS) under the TRICARE Dual Eligible Fiscal Intermediary Contract. This survey is part of the WPS proposal in order to meet Section C.7.7.9. of the TRICARE contract language which states that: “The contractor shall establish an approach for measuring whether the contractor's customer services are achieving highly satisfied TRICARE providers. The methods and procedures shall include measurement, calculation and reporting provider satisfaction. The contractor shall have established methods and procedures to mitigate and identify negative trends for provider satisfaction and allow WPS the feedback needed to take action to improve their customer services and serve the provider better. The survey will be conducted monthly and reported to TRICARE Management Activity.

Dated: January 14, 2014.
Aaron Siegel,
Alternate OSD Federal Register Liaison Officer, Department of Defense.

[FR Doc. 2014-00839 Filed 1-16-14; 8:45 am]

BILLING CODE 5001-06-P